DEPARTMENT OF ENERGY

Federal Energy Regulatory Commission

[Docket No. EC02-100-000, et al.]

Mirant Neenah, LLC, et al.; Electric Rate and Corporate Regulation Filings

August 14, 2002.

The following filings have been made with the Commission. The filings are listed in ascending order within each docket classification.

1. Mirant Neenah, LLC; Alliant Energy Resources, Inc.; Mirant Wisconsin Investments, Inc.;

[Docket No. EC02-100-000]

Take notice that on August 7, 2002, Mirant Neenah, LLC (Mirant Neenah), Alliant Energy Resources, Inc. (Alliant Energy Resources), and Mirant Wisconsin Investments, Inc. (Mirant Wisconsin) tendered for filing a joint application for authorization for Mirant Wisconsin to sell its membership interests in Mirant Neenah to Alliant Energy Resources.

Comment Date: August 28, 2002.

2. ONEOK Power Marketing Company and ONEOK Energy Marketing and Trading Company, L.P.

[Docket No. EC02-101-000]

Take notice that on August 7, 2002, ONEOK Power Marketing Company (OPMC) and ONEOK Energy Marketing and Trading Company, L.P. (OEMT) submitted for filing an application pursuant to section 203 of the Federal Power Act to merge the facilities of OPMC into OEMT, both wholly owned subsidiaries of ONEOK, Inc.

Comment Date: August 28, 2002.

3. Black River Power, LLC

[Docket No. EC02-102-000]

Take notice that on August 12, 2002, Black River Power, LLC (Black River), tendered for filing, pursuant to section 203 of the Federal Power Act, 16 U.S.C. 824b (1994), and Part 33 of the Commission's regulations, 18 CFR part 33, an application for authorization of a disposition of jurisdictional facilities as a result of the transfer of control of Black River to a voting trust. The transaction is expected to result in the disposition of jurisdictional facilities consisting of Black River's rate schedules and transmission facilities interconnected with the Fort Drum Project, a 52 MW topping-cycle electric generation project located at the Fort Drum Army Base near Watertown, New York.

Comment Date: August 29, 2002.

4. Niagara Mohawk Power Corporation

[Docket No. ER02-1266-003]

Take notice that on August 8, 2002, Niagara Mohawk Power Corporation, a National Grid Company (Niagara Mohawk) amended its Compliance Filing previously submitted in this proceeding on July 16, 2002 in conformance with the Federal Energy Regulatory Commission's July 1, 2002 Order in Docket No. ER02-1266-001.

Comment Date: August 29, 2002

5. Kentucky Utilities Company

[Docket Nos. ER02-2265-001, ER02-2267-001, ER02-2272-001, and ER02-2282-001]

Take notice that on August 9, 2002, Kentucky Utilities (KU) tendered for filing (1) a renumbered contract between KU and the City of Madisonville Kentucky dealing with the treatment of power received from the Southeastern Power Administration (SEPA) and (2) a fully executed amendment to the SEPA Contract. The SEPA Contract had been incorrectly attached to a power sales agreement which KU requested to be removed in Dockets No. ER02-2265-000, ER02-2266-000, ER02-2267-000, ER02-2272-000, ER02-2282-000 and ER02-2282 . The renumbered SEPA Contract is designated Rate Schedule FERC No. 306.

Comment Date: August 30, 2002.

6. Kentucky Utilities Company

[Docket Nos. ER02-2268-001, ER02-2277-001, ER02-2278-001, and ER02-2279-001]

Take notice that on August 9, 2002, Kentucky Utilities (KU) tendered for filing (1) a renumbered contract between KU and the City of Falmouth Kentucky dealing with the treatment of power received from the Southeastern Power Administration (SEPA) and (2) a fully executed amendment to the SEPA Contract. The SEPA Contract had been incorrectly attached to a power sales agreement which KU requested to be removed in Docket No. ER02-2276-000. The renumbered SEPA Contract is designated Rate Schedule FERC No.310.

Comment Date: August 30, 2002.

7. Southern Company Services, Inc.

[Docket No. ER02-2442-000]

Take notice that on August 9, 2002, Southern Company Services, Inc., acting on behalf of Alabama Power Company, Georgia Power Company, Gulf Power Company, Mississippi Power Company, and Savannah Electric and Power Company (collectively referred to as Operating Companies), tendered for Commission review information and replacement tariff sheets concerning the accrual of post-retirement benefits other than pensions as set forth in Statement of Financial Accounting Standard No. 106 by the Financial Accounting Standards Board in agreements and tariffs of the Operating Companies (jointly and individually). The following Commission approved rate schedules are affected:

SoCos.—Rate Schedule No. 15

SoCos.—Rate Schedule No. 30

SoCos.—Rate Schedule No. 33

SoCos.—Rate Schedule No. 47

SoCos.—Rate Schedule No. 51

SoCos.—Rate Schedule No. 53

SoCos.—Rate Schedule No. 59

SoCos.—Rate Schedule No. 62

SoCos.—Rate Schedule No. 70

SoCos.—Rate Schedule No. 76

SoCos.—Rate Schedule No. 77

SoCos.—Rate Schedule No. 78

SoCos.—Rate Schedule No. 93

Alabama Power—Rate Schedule No. 145

Georgia Power—Rate Schedule No. 803

Georgia Power—Rate Schedule Nos. 824, 825 and 826

Georgia Power—Rate Schedule Nos. 836, 837, and 838

Mississippi Power—Rate Schedule No. 135

Gulf Power—Rate Schedule No. 82

Gulf Power—Rate Schedule No. 84

Comment Date: August 30, 2002.

8. Vermont Electric Power Company, Inc.

[Docket No. ER02-2443-000]

Take notice that on August 9, 2002, Vermont Electric Power Company, Inc. (VELCO) tendered for filing with the Federal Energy Regulatory Commission an executed Interconnection Agreement between VELCO and Entergy Nuclear Vermont Yankee, LLC (Entergy Nuclear VY) that sets forth the terms and conditions governing the interconnection between Entergy Nuclear VY's generating facility and VELCO's transmission system.

Comment Date: August 30, 2002.

9. Calpine Construction Finance Company, L.P.

[Docket No. ER02-2444-000]

Take notice that on August 9, 2002, Calpine Construction Finance Company, L.P. (CCFC) filed an executed power marketing agreement under which CCFC will make wholesale sales of electric energy to Calpine Energy Services, L.P. at market-based rates. CCFC requests privileged treatment of this agreement pursuant to 18 CFR 388.112.

Comment Date: August 30, 2002.

10. Citizens Communications Company

[Docket No. ER02-2445-000]

Take notice that on August 9, 2002, Citizens Communications Company (Citizens) filed a Non-Firm Interchange Agreement with Aha Macav Power Service. The filing relates to emergency service that Citizens' Arizona Electric Division (AED) provided to Aha Macav Power Service during an emergency outage on July 13 and 14, 2002.

Citizens requests waiver of the Commission's prior notice requirements, and an effective date of July 13, 2002 for the agreement. Copies of this filing were served on the entities listed on the certificate of service attached to the filing. In addition, a copy of the rate schedule is available for inspection at the offices of Citizens' Arizona Electric Division during regular business hours.

Comment Date: August 30, 2002.

11. San Diego Gas & Electric Company

[Docket No. ER02-2446-000]

Take notice that on August 9, 2002 San Diego Gas & Electric Company (SDG&E) tendered for filing its final cost reconciliation for the interconnection of 98 MW generation facilities owned by Wildflower Energy, LP (Wildflower). SDG&E seeks approval of final costs totaling $438,608.78.

Along with approval of its costs, SDG&E seeks approval of an increase in the monthly Operating & Maintenance (O&M) charges payable to SDG&E by Wildflower from .0025 times the cost of the installed facilities to .0035783 times the cost of the facilities. SDG&E also requests waiver of the sixty day notice period for the effective date of the increase, as required by 18 CFR 35.11.

SDG&E states that copies of its filing have been served on Wildflower.

Comment Date: August 30, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-21383 Filed 8-21-02; 8:45 am]

BILLING CODE 6717-01-P